DEPARTMENT OF THE INTERIOR

National Park Service

National Register of Historic Places; Notification of Pending Nominations

Nominations for the following properties being considered for listing in the National Register were received by the National Park Service before March 23, 2002. Pursuant to section 60.13 of 36 CFR part 60 written comments concerning the significance of these properties under the National Register criteria for evaluation may be forwarded by United States Postal Service, to the National Register of Historic Places, National Park Service, 1849 C St. NW., NC400, Washington, DC 20240; by all other carriers, National Register of Historic Places, National Park Service, 800 N. Capitol St. NW., Suite 400, Washington DC 20002; or by fax, 202-343-1836. Written or faxed comments should be submitted by April 25, 2002.

Carol D. Shull,
Keeper of the National Register of Historic Places.

Arizona

Maricopa County

Palmer, E. Payne, House, 6012 N. Central Ave., Phoenix, 02000420.

Navajo County

Wigwam Village #6 (Historic US Route 66 in Arizona MPS), 811 W. Hopi Dr., Holbrook, 02000419

CONNECTICUT

Fairfield County

Camps Nos. 10 and 41 of Rochambeau's Army (Rochambeau's Army in Connecticut, 1780-1782 MPS), Address Restricted, Newtown, 02000424

Hartford County

Center Burying Yard, Old, 30 N. Main St., West Hartford, 02000421

New London County

Redwood (Rochambeau's Army in Connecticut, 1780-1782 MPS), 589 Exeter Rd., Lebanon, 02000423

Tolland County

March Route Rochambeau's Army—Hutchinson Road (Rochambeau's Army in Connecticut, 1780-1782 MPS), Hutchinson Road, from jct. with Hendee Rd. southward to end, Andover, 02000425

Oliver White Tavern (Rochambeau's Army in Connecticut, 1780-1782 MPS), 2 Brandy St., Bolton, 02000422

IOWA

Cerro Gordo County

Mason City YMCA, 15 N. Pennsylvania, Mason City, 02000426

KANSAS

Ellis County

Merchants Bank of Ellis, 822 Washington St., Ellis, 02000428

Hodgeman County:

Hodgeman County Courthouse, (County Courthouses of Kansas MPS), 500 Main St., Jetmore, 02000429

McPherson County:

Wright, John R., House, 322 W. Marlin St., McPherson, 02000427

MASSACHUSETTS

Middlesex County

Forge Village Historic District, Roughly bounded by Forge Pond, W. Prescott St., Story St., Orchard St., Abbott St., and Pleasant St., Westford, 02000430

Hosmer, Jonathan and Simon, House,300 Main St., Acton, 02000432

Worcester County

Whitcomb Inn and Farm, 43 Old Sugar Rd., Bolton, 02000431

NEW JERSEY

Mercer County

Sacred Heart Church, 343 Broad St., Trenton, 02000434

NEW YORK

Clinton County

Reaville Historic District, Old York, Amwell, Barley Sheaf, Kuhl, Manners Rds., East Amwell, 02000433

Suffolk County

First Congregational Church of Bay Shore, 1860 Union Blvd., Bay Shore, 02000448

Westchester County

All Saints Episcopal Church, 96 and 201 Scarborough Rd., Braircliff Manor, 02000449

Union Church of Pocantico Hills, 555-559 Bedford Rd., Pocantico Hills, 02000447

NORTH CAROLINA

Burke County

Dalmas, Jean-Pierre Auguste, House, 4950 Villar Lane, NE, Valdese, 02000444

Davidson County

Grimes Brothers Mill, 2 North State St., Lexington, 02000443

Duplin County

Dallas Graded and High School, 300 W. Church St., Dallas, 02000441

Forsyth County

Holly Avenue Historic District, Roughly bounded by Broad and Marshall Sts., Holly Ave. and Business I-40, Winston-Salem, 02000442

Lee County

Seaboard Milling Company, 202 Hickory Ave., Sanford, 02000440

Mecklenburg County

Jones III, Hamilton C., House, 201 Cherokee Rd., Charlotte, 02000439 Moore County

Kelly, Alexander, House, NC 1640, 0.3 mi. SE of jct. with NC 1666, Carthage, 02000438

Orange County

Holden-Roberts Farm, NC 1002, 1 mi. E of NC 1538, Hillsborough, 02000436

Occoneechee Speedway, Elizabeth Brady, 0.3 N of US 70 Business, Hillsborough, 02000435

Surry County

Hugh Chatham Memorial Hospital, (former), 230 Hawthorne Rd., Elkin, 02000437

VIRGINIA

Botetourt County

Kinzie, Thomas D., House, 65 Kinzie Rd., Troutville, 02000445

Fairfax County

Spring Hill Farm, 1121 Spring Hill Rd., McLean, 02000446

Russell County

Mason-Dorton Schook, VA 71, jct. with VA 606, Castlewood, 02000450

[FR Doc. 02-8696 Filed 4-9-02; 8:45 am]

BILLING CODE 4310-70-P